DEPARTMENT OF EDUCATION

Office of Special Education and Rehabilitative Services

AGENCY: Department of Education.

ACTION: Notice inviting applications for new awards for fiscal year (FY) 2002.

SUMMARY: This notice announces closing dates, applicable priorities, and other information regarding the transmittal of grant applications for FY 2002 competitions under two programs authorized under part D, subpart 2 of the Individuals with Disabilities Education Act (IDEA), as amended. The two programs are: (1) Special Education—Personnel Preparation to Improve Services and Results for Children with Disabilities (one priority); and (2) Special Education—Technology and Media Services for Individuals with Disabilities (one priority).

Please note that significant dates for the availability and submission of applications, important fiscal information, and page limits for application narratives are listed in a table following information on individual programs and priorities.

Waiver of Rulemaking

It is generally our practice to offer interested parties the opportunity to comment on proposed priorities. However, section 661(e)(2) of IDEA makes the rulemaking procedures in the Administrative Procedure Act (5 U.S.C. 553) inapplicable to the priorities in this notice.

General Requirements

(a) The projects funded under this notice must make positive efforts to employ and advance in project activities qualified individuals with disabilities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

Page Limit

Part III of each application, the application narrative, is where an applicant addresses the selection criteria that are used by reviewers in evaluating the application. You must limit Part III to the equivalent of no more than the number of pages listed under each applicable priority and in the table at the end of this notice, using the following standards:

• A “page” is 8.5” × 11” (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject any application if—

• You apply these standards and exceed the page limit; or

• You apply other standards and exceed the equivalent of the page limit.

Instructions for Transmittal of Applications

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The two programs in this announcement: Personnel Preparation to Improve Services and Results for Children with Disabilities-CFDA 84.325L, and Technology and Media Services for Individuals with Disabilities-CFDA 84.327L are included in the pilot project. If you are an applicant for a grant under either of the programs, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Personnel Preparation to Improve Services and Results for Children with Disabilities, and the Technology and Media Services for Individuals with Disabilities programs at:

http://e-grants.ed.gov

We have included additional information about the e-APPLICATION pilot project (see Parity Guidelines between Paper and Electronic Applications) in the application package.

Special Education—Personnel Preparation to Improve Services and Results for Children With Disabilities [CFDA Number 84.325L]

Purposes of Program: The purposes of this program are to (1) help address State-identified needs for qualified personnel—in special education, related services, early intervention, and regular education—to work with children with disabilities; and (2) ensure that these personnel have the skills and knowledge—derived from practices that have been determined through research and experience to be successful—that are needed to serve these children.

Eligible Applicants: Institutions of higher education (IHEs).

Applicable Regulations: (a) The Education Department General Administrative Regulations (EDGAR) in 34 CFR parts 74, 75, 77, 79, 80, 81, 82, 85, 86, 97, 98, and 99; and (b) The regulations for this program in 34 CFR part 304; and (c) The selection criteria chosen from the general selection criteria in 34 CFR 75.210. The specific selection criteria for this priority are included in the application package for this competition.

Priority

Under section 673 of IDEA and 34 CFR 75.105(c)(3) we consider only applications that meet the following priority:

Absolute Priority—Interdisciplinary Preservice Programs In Large-Scale Special Education Research (CFDA Number 84.325L)

Background

Building on the momentum of previous reauthorizations of IDEA, as well as the Government Performance and Results Act (GPRA), the 1997 Amendments to IDEA mandated a national assessment of IDEA (section 674(b)). OSEP responded by designing and implementing several child-focused (by age-range) and policy-focused studies that are gathering a large amount of nationally representative evaluative data on all aspects of special education and early intervention. These data can be used to inform policy and practice decisions and improve results for children with disabilities.

The Assistant Secretary is interested in improving research activities by awarding grants to IHEs to establish doctoral training programs that focus on large-scale research methodology in early intervention, special education and related services.

Priority

This priority supports individuals—at both the doctoral and postdoctoral levels—to (1) develop or refine their expertise in large-scale research methods; and (2) conduct secondary analyses of the data bases associated with national assessment studies or similar studies that are national in scope.

Postdoctoral fellows must have completed a doctoral degree in a relevant discipline such as education, psychology, sociology, economics, or statistics.

The first year of the program must, focus on developing the training program. This includes developing the curriculum and syllabus through interdisciplinary and collaborative cooperation with participating agencies, institutions, departments, etc.

Application Information

An applicant under the proposed project must do the following:

(a) Demonstrate the willingness of one or more entities conducting large-scale longitudinal research on special education or early intervention such as that funded by the Department of Education, another Federal agency, or a university to collaborate in providing postdoctoral training.

(b) Include course syllabi that may currently be relevant to the proposed training program. Course syllabi must clearly reflect the incorporation of large-scale research-based curriculum and pedagogy that ordinarily are not part of a traditional doctoral training program.

(c) Describe how it will inform scholarship recipients of their service obligation requirement.

As part of its activities, the proposed project must do the following:

(a) Develop at the doctoral level extensive coursework that reflects current research and pedagogy on large-scale research studies.

(b)(1) Use clear, defensible, data-based methods for evaluating the extent to which recipients of training are prepared to conduct high quality large-scale research; and (2) communicate the results of this evaluation to OSEP in annual performance reports and the final performance report.

(c) Develop among students competencies: (1) In methodological areas such as group research design, sampling or weighting, survey methods, statistical analyses; and (2) in topical areas such as special education law, special education or education policy, economics of human capital, or school finance.

(d) Provide that postsecondary fellows carry out research activities, at the direction of collaborating entities, that extend beyond the activities for which funding to these entities has already been provided. The project must also require fellows to conduct their own research using data made available by collaborating entities from large-scale longitudinal studies.

Additional Fiscal Information

(a) In accordance with section 673(i) of IDEA and 34 CFR 304.20, a grantee must use at least 65 percent of the total requested budget for student scholarships in years two, three, and four or provide sufficient justification for any designation less than 65 percent of the total requested budget for student scholarships.

(b) Because the first year of the project will be for developmental purposes, there will be no student support unless some students are required to participate in program development. Therefore, the grant funds available for the first year will be significantly less than the following three years.

Technology and Media Services for Individuals With Disabilities [CFDA Number 84.327L]

Purposes of Program: To: (1) Improve results for children with disabilities by promoting the development, demonstration, and use of technology; (2) support educational media activities designed to be of educational value to children with disabilities; and (3) provide support for some captioning, video description, and cultural activities.

This competition focuses on captioning and video description activities.

Applicable Regulations: (a) EDGAR in 34 CFR parts 74, 75, 77, 79, 80, 81, 82, 85, 86, 97, 98, and 99; and (b) The selection criteria are chosen from the general selection criteria in 34 CFR 75.210. The specific selection criteria for this priority are included in the application package for this competition.

Note: The regulations in 34 CFR part 86 apply to institutions of higher education only.

Eligible Applicants: State educational agencies (SEAs); local educational agencies (LEAs); institutions of higher education (IHEs); other public agencies; nonprofit private organizations; outlying areas; freely associated States; Indian tribes or tribal organizations; and for-profit organizations.

Priority

Under section 687 of IDEA and 34 CFR 75.105(c)(3), we consider only applications that meet the following priority:

Absolute Priority—Television Access (84.327L)

This priority supports cooperative agreements to provide captioning of a variety of types of television programs: (1) National news and public information programs; (2) local news and public information programs; (3) Spanish language programs; and (4) accessible children's television programs. For the purpose of this competition, program hours or the costs of captioning associated with those programs that are funded by promotional billboards shall not be considered as an in-kind cost, or a private sector match, for Federal funds.

To be considered for funding under this competition, a project must do the following:

(a) Include criteria for selecting programs that take into account the preference of educators, students, and parents; the diversity of the type of programming available; and the contribution of the programming to the general educational experience of students who have disabilities in the areas of vision or hearing.

(b) Identify and support a consumer advisory group, including parents and educators, that would meet at least annually.

(c) Use the expertise of this consumer advisory group to certify that each program captioned or described with project funds is educational, news, or informational programming.

(d) Identify the extent to which the programming is widely available.

(e) Identify the total number of program hours the project will make accessible and the cost per hour for description or captioning or both.

(f) For each program to be described or captioned or both, identify the source of any private or other public support, and the projected dollar amount of that support, if any.

(g) Demonstrate the willingness of program providers or owners of programs to permit and facilitate the description or captioning or both of their programs.

(h) Provide assurances from program providers or owners of programs stating that programs made accessible under this project will air, and will continue to air, with descriptions or captions or both.

(i) Implement procedures for monitoring the extent to which full accessibility is provided, and use this information to make refinements in project operations.

(j) Identify the anticipated shelf-life and range of distribution of the captioned or described programs that is possible without further costs to the project beyond the initial captioning costs.

An application may address only one type of the following programs —

(1) National News and Public Information Programs. To be funded under this type of programming, a project must continue and expand the captioning of national news and 9 public information programs. This is intended to enable persons who are deaf or hard of hearing to have access to up-to-date national morning, evening, and weekend news, as well as information concerning current events and other significant public information.

(2) Local News and Public Information Programs. A project funded under this type of programming is expected to increase the capacity of the television captioning industry to respond to demands for accurate real-time captioning. To be funded a project must caption local news and public information programs using the real-time stenographic method preferred by consumers who are deaf or hard of hearing.

(3) Spanish Language Programs. To be funded under this type of programming, a project must caption in Spanish a variety of educational, news, and informational programs—including these types of programs for children—broadcast or cablecast in Spanish.

(4) Accessible Children's Television Programs. To be funded under this type of programming, a project must describe and caption widely available educational, news, and informational programs for children—including programs suitable for young adults—shown on broadcast, 10 satellite, or cable systems. Captioning must provide a visual representation of the audio portion of the programming while video description must provide a narrative of what takes place visually on the screen.

Competitive Preference Priority

Within the Local News and Public Information Programs segment of this absolute priority, we award under 34 CFR 75.105(c)(2)(i) an additional 20 points to an application from an applicant that —

(a) During FY 2001, was not a grantee or a subcontractor of a grantee under the Technology and Media Services for Individuals with Disabilities program; and

(b) Won't use a subcontractor who was a grantee or a subcontractor of a grantee under this program during FY 2001.

Thus, an applicant meeting this competitive preference could receive a maximum possible score of 120 points.

Fiscal Information

Under this priority, we intend to make one or more awards in each of the four areas of activity identified.

Funds provided under the National News and Public Information Programs segment of this priority may be used to support no more than 50 percent of the captioning costs.

Individuals With Disabilities Education Act—Application Notice for Fiscal Year 2002
CFDA No. and name | Applications available | Application deadline date | Estimated available funds | Deadline for intergovernmental review | Maximum award (per year)* | Estimated range of awards | Estimated average size of awards | Project period | Page limit** | Estimated number of awards
84.325L Interdisciplinary Preservice Programs In Large-Scale Special Education Research | 07/08/02 | 08/08/02 | $150,000 (year one) | 09/30/02 | $150,000 (year one) | $130,000-$150,000 | $148,000 | Up to 48 mos. | 30 | 2
|  |  | $500,000 (years two, three & four) |  | $500,000 (years two, three & four) | $450,000-$500,000 |  |  |  |
84.327L Television Access | 07/08/02 | 08/08/02 |  | 09/30/02 |  |  |  | Up to 36 mos. | 40 |
—National News and Public Information Programs |  |  | $250,000 |  | $250,000 | $230,000-$250,000 | $249,000 |  |  | 6
—Local News and Public Information Programs |  |  | $130,000 |  | $130,000 | $100,000-$130,000 | $125,000 |  |  | 16
—Spanish Language Programs |  |  | $115,000 |  | $115,000 | $100,000-$115,000 | $113,000 |  |  | 2
—Accessible Children's Television Programs |  |  | $500,000 |  | $500,000 | $450,000-$500,000 | $480,000 |  |  | 5
* We will reject any application that proposes a budget exceeding the amounts shown for a single budget period of 12 months.
** Please refer to the “Page Limit” requirements under the “General Requirements” section.
Note: The Department is not bound by any estimates in this notice.

For Applications Contact: Education Publications Center (ED Pubs), P.O. Box 1398, Jessup, Maryland 20794-1398. Telephone (toll free): 1-877-4ED-Pubs (1-877-433-7827). FAX: 301-470-1244. If you use a telecommunications device for the deaf (TDD), you may call (toll free): 1-877-576-7734.

You may also contact Ed Pubs at its Web site: http://www.ed.gov/pubs/edpubs.html or you may contact ED Pubs at its e-mail address: edpubs@inet.ed.gov

If you request an application from ED Pubs, be sure to identify the competition by the appropriate CFDA number.

FOR FURTHER INFORMATION CONTACT: Grants and Contracts Services Team, U.S. Department of Education, 400 Maryland Avenue, SW., room 3317, Switzer Building, Washington, D.C. 20202-2550. Telephone: (202) 205-8207. If you use a TDD, you may call the Federal Information Relay Service (FIRS) at 1-800-877-8339.

Individuals with disabilities may obtain this document in an alternative format (e.g., Braille, large print, audiotape, or computer diskette) on request to the contact number listed in the preceding paragraph.

Individuals with disabilities may obtain a copy of the application package in an alternative format by contacting the Department as listed above. However, the Department is not able to reproduce in an alternative format the standard forms included in the application package.

Intergovernmental Review

This program is subject to the requirements of Executive Order 12372 and the regulations in 34 CFR part 79. One of the objectives of the Executive order is to foster an intergovernmental partnership and a strengthened federalism. The Executive Order relies on processes developed by State and local governments for coordination and review of proposed Federal financial assistance. This document provides early notification of our specific plans and actions for this program.

Electronic Access to This Document

You may view this document, as well as all other Department of Education documents published in the Federal Register, in text or Adobe Portable Document Format (PDF) on the internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1405, 1461, 1473 and 1487.

Dated: July 1, 2002.
Robert H. Pasternack,
Assistant Secretary for Special Education and Rehabilitative Services.

[FR Doc. 02-16959 Filed 7-5-02; 8:45 am]

BILLING CODE 4000-01-P